DEPARTMENT OF TRANSPORTATION

Federal Motor Carrier Safety Administration

[Docket No. FMCSA-2022-0018]

Qualification of Drivers; Exemption Applications; Vision

AGENCY: Federal Motor Carrier Safety Administration (FMCSA), Department of Transportation (DOT).

ACTION: Notice of applications for exemption; request for comments.

SUMMARY: FMCSA announces receipt of applications from 24 individuals for an exemption from the vision requirement in the Federal Motor Carrier Safety Regulations (FMCSRs) to operate a commercial motor vehicle (CMV) in interstate commerce. If granted, the exemptions will enable these individuals to operate CMVs in interstate commerce without meeting the vision requirement in one eye.

DATES: Comments must be received on or before March 18, 2022.

ADDRESSES: You may submit comments identified by the Federal Docket Management System (FDMS) Docket No. FMCSA-2022-0018 using any of the following methods:

• Federal eRulemaking Portal: Go to www.regulations.gov/, insert the docket number, FMCSA-2022-0018, in the keyword box, and click “Search.” Next, sort the results by “Posted (Newer-Older),” choose the first notice listed, and click on the “Comment” button. Follow the online instructions for submitting comments.

• Mail: Dockets Operations; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, DOT, 1200 New Jersey Avenue SE, Room W64-224, Washington, DC 20590-0001. Office hours are 8:30 a.m. to 5 p.m., ET, Monday through Friday, except Federal holidays. If you have questions regarding viewing or submitting material to the docket, contact Dockets Operations, (202) 366-9826.

SUPPLEMENTARY INFORMATION:

I. Public Participation

A. Submitting Comments

If you submit a comment, please include the docket number for this notice (Docket No. FMCSA-2022-0018), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to www.regulations.gov/docket?D=FMCSA-2022-0018. Next, sort the results by “Posted (Newer-Older),” choose the first notice listed, click the “Comment” button, and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Comments

To view comments go to www.regulations.gov. Insert the docket number, FMCSA-2022-0018, in the keyword box, and click “Search.” Next, sort the results by “Posted (Newer-Older),” choose the first notice listed, and click “Browse Comments.” If you do not have access to the internet, you may view the docket online by visiting Dockets Operations in Room W12-140 on the ground floor of the DOT West Building, 1200 New Jersey Avenue SE, Washington, DC 20590-0001, between 9 a.m. and 5 p.m., ET, Monday through Friday, except Federal holidays. To be sure someone is there to help you, please call (202) 366-9317 or (202) 366-9826 before visiting Dockets Operations.

C. Privacy Act

In accordance with 5 U.S.C. 553(c), DOT solicits comments from the public to better inform its regulatory process. DOT posts these comments, without edit, including any personal information the commenter provides, to www.regulations.gov, as described in the system of records notice (DOT/ALL-14 FDMS), which can be reviewed at www.transportation.gov/privacy.

II. Background

Under 49 U.S.C. 31136(e) and 31315(b), FMCSA may grant an exemption from the FMCSRs for no longer than a 5-year period if it finds such exemption would likely achieve a level of safety that is equivalent to, or greater than, the level that would be achieved absent such exemption. The statute also allows the Agency to renew exemptions at the end of the 5-year period. FMCSA grants medical exemptions from the FMCSRs for a 2-year period to align with the maximum duration of a driver's medical certification.

The 24 individuals listed in this notice have requested an exemption from the vision requirement in 49 CFR 391.41(b)(10). Accordingly, the Agency will evaluate the qualifications of each applicant to determine whether granting an exemption will achieve the required level of safety mandated by statute.

The physical qualification standard for drivers regarding vision found in § 391.41(b)(10) states that a person is physically qualified to drive a CMV if that person has distant visual acuity of at least 20/40 (Snellen) in each eye without corrective lenses or visual acuity separately corrected to 20/40 (Snellen) or better with corrective lenses, distant binocular acuity of at least 20/40 (Snellen) in both eyes with or without corrective lenses, field of vision of at least 70° in the horizontal meridian in each eye, and the ability to recognize the colors of traffic signals and devices showing standard red, green, and amber.

On July 16, 1992, the Agency first published the criteria for the Vision Waiver Program, which listed the conditions and reporting standards that CMV drivers approved for participation would need to meet (57 FR 31458). The current Vision Exemption Program was established in 1998, following the enactment of amendments to the statutes governing exemptions made by § 4007 of the Transportation Equity Act for the 21st Century, Public Law 105-178, 112 Stat. 107, 401 (June 9, 1998). Vision exemptions are considered under the procedures established in 49 CFR part 381 subpart C, on a case-by-case basis upon application by CMV drivers who do not meet the vision standards of § 391.41(b)(10).

To qualify for an exemption from the vision requirement, FMCSA requires a person to present verifiable evidence that he/she has driven a commercial vehicle safely in intrastate commerce with the vision deficiency for the past three years. Recent driving performance is especially important in evaluating future safety, according to several research studies designed to correlate past and future driving performance. Results of these studies support the principle that the best predictor of future performance by a driver is his/her past record of crashes and traffic violations. Copies of the studies may be found at www.regulations.gov/docket?D=FMCSA-1998-3637.

FMCSA believes it can properly apply the principle to monocular drivers, because data from the Federal Highway Administration's former waiver study program clearly demonstrated the driving performance of experienced monocular drivers in the program is better than that of all CMV drivers collectively.¹ The fact that experienced monocular drivers demonstrated safe driving records in the waiver program supports a conclusion that other monocular drivers, meeting the same qualifying conditions as those required by the waiver program, are also likely to have adapted to their vision deficiency and will continue to operate safely.

¹ A thorough discussion of this issue may be found in a FHWA final rule published in the Federal Register on March 26, 1996 and available on the internet at https://www.govinfo.gov/content/pkg/FR-1996-03-26/pdf/96-7226.pdf.

The first major research correlating past and future performance was done in England by Greenwood and Yule in 1920. Subsequent studies, building on that model, concluded that crash rates for the same individual exposed to certain risks for two different time periods vary only slightly (See Bates and Neyman, University of California Publications in Statistics, April 1952). Other studies demonstrated theories of predicting crash proneness from crash history coupled with other factors. These factors—such as age, sex, geographic location, mileage driven and conviction history—are used every day by insurance companies and motor vehicle bureaus to predict the probability of an individual experiencing future crashes (See Weber, Donald C., “Accident Rate Potential: An Application of Multiple Regression Analysis of a Poisson Process,” Journal of American Statistical Association, June 1971). A 1964 California Driver Record Study prepared by the California Department of Motor Vehicles concluded that the best overall crash predictor for both concurrent and nonconcurrent events is the number of single convictions. This study used 3 consecutive years of data, comparing the experiences of drivers in the first 2 years with their experiences in the final year.

III. Qualifications of Applicants

Robert A. Buckley

Mr. Buckley, 68, has a corneal scar in his right eye due to a traumatic incident in 1960. The visual acuity in his right eye is no light perception, and in his left eye, 20/20. Following an examination in 2021, his optometrist stated, “Mr. Buckley has sufficient vision to perform the driving tasks needed to operate a commercial vehicle even though he is monocular.” Mr. Buckley reported that he has driven straight trucks for 53 years, accumulating 1.06 million miles. He holds an operator's license from Indiana. His driving record for the last 3 years shows no crashes and no convictions for moving violations in a CMV.

Steven L. Crews

Mr. Crews, 59, has had an inoperable mature cataract in his right eye due to a traumatic incident in his childhood. The visual acuity in his right eye is light perception, and in his left eye, 20/20. Following an examination in 2021, his optometrist stated, “Based on his 30 year history of operating a commercial vehicle, and the visual findings of his left eye, I think he has sufficient vision to perform the driving tasks required.” Mr. Crews reported that he has driven straight trucks for 31 years, accumulating 1.86 million miles, and tractor-trailer combinations for 12 years, accumulating 720,000 miles. He holds a Class A CDL from Texas. His driving record for the last 3 years shows no crashes and no convictions for moving violations in a CMV.

Arthur B. Edge III

Mr. Edge, 58, has an enucleation of his left eye due to an infection in 2015. The visual acuity in his right eye is 20/25, and in his left eye, no light perception. Following an examination in 2021, his optometrist stated, “I also certify, that in my medical opinion, the patient has sufficient vision to perform the driving tasks required to operate a commercial vehicle.” Mr. Edge reported that he has driven straight trucks for 39 years, accumulating 1.56 million miles, tractor-trailer combinations for 35 years, accumulating 1.75 million miles, and buses for 3 years, accumulating 300 miles. He holds a Class A CDL from Georgia. His driving record for the last 3 years shows no crashes and no convictions for moving violations in a CMV.

Jorge Estol

Mr. Estol, 47, has had a macular retinal scar in his left eye since 2007. The visual acuity in his right eye is 20/20, and in his left eye, 20/200. Following an examination in 2021, his optometrist stated, “I certify that imy [sic] medical opinion, patient has sufficient vision to perform the driving tasks required to operate a commercial vehicle.” Mr. Estol reported that he has driven straight trucks for 7 years, accumulating 756,000 miles, and tractor-trailer combinations for 7 years, accumulating 756,000 miles. He holds a Class A CDL from Florida. His driving record for the last 3 years shows no crashes and no convictions for moving violations in a CMV.

William L. Fuqua

Mr. Fuqua, 26, has had vitreoretinal adhesion in his right eye since birth. The visual acuity in his right eye is 20/50, and in his left eye, 20/20. Following an examination in 2021, his optometrist stated, “In my medical opinion, Mr. William Fuqua has sufficient vision to perform the driving tasks required to operate a commercial vehicle.” Mr. Fuqua reported that he has driven straight trucks for 10 years, accumulating 15,000 miles, tractor-trailer combinations for 2 years, accumulating 156,000 miles, and buses for 2 years, accumulating 2,000 miles. He holds a Class DA CDL from Kentucky. His driving record for the last 3 years shows no crashes and no convictions for moving violations in a CMV.

Terry G. Grice

Mr. Grice, 41, has had amblyopia in his left eye since birth. The visual acuity in his right eye is 20/20, and in his left eye, 20/300. Following an examination in 2021, his optometrist stated, “I also certify that in my medical opinion Terry Grice has sufficient vision to perform the driving tasks required to operate a commercial vehicle.” Mr. Grice reported that he has driven straight trucks for 9 years, accumulating 324,000 miles. He holds an operator's license from Indiana. His driving record for the last 3 years shows no crashes and no convictions for moving violations in a CMV.

Gerardo Hernandez

Mr. Hernandez, 41, has had strabismus in his right eye since childhood. The visual acuity in his right eye is 20/70, and in his left eye, 20/20. Following an examination in 2021, his optometrist stated, “In my opinion Mr. Hernandez has sufficient vision to operate a commercial vehicle.” Mr. Hernandez reported that he has driven tractor-trailer combinations for 8 years, accumulating 4.45 million miles. He holds a Class A CDL from Texas. His driving record for the last 3 years shows no crashes and one conviction for a non-moving violation in a CMV: Over 34,000 pounds, tandem axle.

Joshua J. Hilliard

Mr. Hilliard, 36, has had amblyopia in his right eye since childhood. The visual acuity in his right eye is 20/200, and in his left eye, 20/20. Following an examination in 2021, his optometrist stated, “In my opinion, Mr. Hilliard demonstrated no visual limitations other than described above and poses no significant risk for operating a commercial vehicle, as long as prescribed glasses or contacts are worn at all times.” Mr. Hilliard reported that he has driven straight trucks for 5 years, accumulating 120,000 miles. He holds a Class A CDL from Ohio. His driving record for the last 3 years shows no crashes and no convictions for moving violations in a CMV.

Orlando M. Hinton

Mr. Hinton, 40, has had amblyopia in his left eye since childhood. The visual acuity in his right eye is 20/20, and in his left eye, 20/70. Following an examination in 2021, his optometrist stated, “In my medical opinion, Mr. Hinton does have sufficient vision to perform driving task required to operate a commercial vehicle.” Mr. Hinton reported that he has driven straight trucks for 9 years, accumulating 630,000 miles, and tractor-trailer combinations for 3 years, accumulating 150,000 miles. He holds a Class A CDL from North Carolina. His driving record for the last 3 years shows no crashes and no convictions for moving violations in a CMV.

Joshua M. Howe

Mr. Howe, 28, has had amblyopia in his left eye since childhood. The visual acuity in his right eye is 20/20, and in his left eye, 20/200. Following an examination in 2021, his optometrist stated, “I submit this statement to the state of Indiana BMV, regarding Joshua M. Howe, in order to verify that his visual status is stable and adequate for continued use of a commercial motor vehicle.” Mr. Howe reported that he has driven straight trucks for 11 years, accumulating 2.75 million miles and tractor-trailer combinations for 11 years, accumulating 55,000 miles. He holds a Class A CDL from Indiana. His driving record for the last 3 years shows no crashes and no convictions for moving violations in a CMV.

Janessen B. Jenkins, Jr.

Mr. Jenkins, 39, has complete loss of vision in his right eye due to a traumatic incident during his childhood. The visual acuity in his right eye is light perception, and in his left eye, 20/20. Following an examination in 2021, his optometrist stated, “I feel that Mr. Jenkins is visually capable of performing the driving tasks required of his job to operate a commercial vehicle” Mr. Jenkins reported that he has driven tractor-trailer combinations for 3 years, accumulating 285,000 miles. He holds an operator's license from Georgia. His driving record for the last 3 years shows no crashes and no convictions for moving violations in a CMV.

Justin L. Knoll

Mr. Knoll, 27, has proliferative retinopathy in his left eye due to a traumatic incident in 2008. The visual acuity in his right eye is 20/20, and in his left eye, hand motion. Following an examination in 2021, his ophthalmologist stated, “In my professional medical opinion, Justin is able to safely operate a commercial vehicle which he has been doing within the State of Michigan since 2013.” Mr. Knoll reported that he has driven tractor-trailer combinations for 8 years, accumulating 624,000 miles. He holds a Class ECA CDL from Michigan. His driving record for the last 3 years shows no crashes and no convictions for moving violations in a CMV.

Robert M. Lammon

Mr. Lammon, 39, has an enucleation in his left eye due to a traumatic incident in 2017. The visual acuity in his right eye is 20/20, and in his left eye, no light perception. Following an examination in 2021, his optometrist stated, “In my opinion this individual presents with sufficient vision to operate a commercial vehicle.” Mr. Lammon reported that he has driven straight trucks for 10 years, accumulating 500,000 miles and tractor-trailer combinations for 10 years, accumulating 500,000 miles. He holds a Class A CDL from Ohio. His driving record for the last 3 years shows no crashes and no convictions for moving violations in a CMV.

Richard D. Lang

Mr. Lang, 62, has had retinal artery occlusion in his left eye since 2018. The visual acuity in his right eye is 20/20, and in his left eye, 20/125. Following an examination in 2021, his optometrist stated, “In my medical opinion, Mr. Lang has sufficient vision to perform the driving tasks required to operate a commercial vehicle.” Mr. Lang reported that he has driven tractor-trailer combinations for 15 years, accumulating 2.175 million miles. He holds a Class A CDL from South Dakota. His driving record for the last 3 years shows no crashes and no convictions for moving violations in a CMV.

Larry P. Magrath

Mr. Magrath, 57, has had amblyopia in his right eye since childhood. The visual acuity in his right eye is 20/70, and in his left eye, 20/20. Following an examination in 2021, his optometrist stated, “I believe Larry Magrath has sufficient vision to perform the driving tasks required to operate a commercial vehicle.” Mr. Magrath reported that he has driven straight trucks for 15 years, accumulating 375,000 miles and buses for 5 years, accumulating 12,500 miles. He holds a Class A CDL from Minnesota. His driving record for the last 3 years shows no crashes and no convictions for moving violations in a CMV.

David L. Mairose

Mr. Mairose, 57, has had amblyopia in his left eye since childhood. The visual acuity in his right eye is 20/20, and in his left eye, 20/200. Following an examination in 2021, his optometrist stated, “I certify that, in my medical opinion, this patient has sufficient vision to perform driving tasks required to operate a commercial vehicle.” Mr. Mairose reported that he has driven straight trucks for 37 years, accumulating 203,500 miles and tractor-trailer combinations for 37 years, accumulating 925,000 miles. He holds a Class A CDL from Iowa. His driving record for the last 3 years shows no crashes and no convictions for moving violations in a CMV.

Darrell L. Marlett

Mr. Marlett, 50, has had a macular neovascualar scar in his left eye since 2015. The visual acuity in his right eye is 20/15, and in his left eye, 20/200. Following an examination in 2021, his optometrist stated, “It is in my opinion, based on all the findings, that Mr. Marlett should have no issues driving a commercial vehicle.” Mr. Marlett reported that he has driven straight trucks for 1 year, accumulating 1,500 miles, and tractor-trailer combinations for 9 years, accumulating 2.25. million miles. He holds a Class A CDL from Indiana. His driving record for the last 3 years shows no crashes and no convictions for moving violations in a CMV.

Michael T. McGinty

Mr. McGinty, 34, has a ruptured globe in his right eye due to a traumatic incident in 2010. The visual acuity in his right eye is light perception, and in his left eye, 20/20. Following an examination in 2021, his optometrist stated, “In my medical opinion, Michal McGinty has sufficient vision to perform the driving tasks required to operate a commercial vehicle.” Mr. McGinty reported that he has driven straight trucks for 14 years, accumulating 109,200 miles. He holds a Class AM CDL from Pennsylvania. His driving record for the last 3 years shows no crashes and no convictions for moving violations in a CMV.

Stephen D. Miles

Mr. Miles, 63, has had histoplasmosis in his left eye since birth. The visual acuity in his right eye is 20/20, and in his left eye, 20/80. Following an examination in 2021, his optometrist stated, “He has normal color vision and is able to drive a commercial vehicle safely. His condition is stable.” Mr. Miles reported that he has driven tractor-trailer combinations for 35 years, accumulating 3.15 million miles. He holds a Class A CDL from Oregon. His driving record for the last 3 years shows one crash for which he was cited for a moving violation in a CMV for careless driving.

Joshua D. Mylan

Mr. Mylan, 37, has had glaucoma in his right eye since 2016. The visual acuity in his right eye is no light perception, and in his left eye, 20/20. Following an examination in 2021, his ophthalmologist stated, “In my opinion Mr. Mylan has sufficient vision to perform the driving tasks required to operate a commercial vehicle.” Mr. Mylan reported that he has driven straight trucks for 8 years, accumulating 153,000 miles, and tractor-trailer combinations for 8 years, accumulating 68,000 miles. He holds an operator's license from Washington. His driving record for the last 3 years shows no crashes and no convictions for moving violations in a CMV.

Albert M. Randle

Mr. Randle, 60, has had a retinal detachment in his left eye since 2006. The visual acuity in his right eye is 20/20, and in his left eye, no light perception. Following an examination in 2021, his ophthalmologist stated, “In my medical opinion, Mr. Randle has sufficient vision to perform the driving tasks required to operate a commercial vehicle.” Mr. Randle reported that he has driven straight trucks for 4 years, accumulating 192,000 miles, and tractor-trailer combinations for 29 years, accumulating 3.48 million miles. He holds a Class A CDL from Texas. His driving record for the last 3 years shows no crashes and no convictions for moving violations in a CMV.

Mitchell L. Reineke

Mr. Reineke, 34, has had a retinal scar in his left eye since birth. The visual acuity in his right eye is 20/20, and in his left eye, light perception. Following an examination in 2022, his optometrist stated, “Mitchell's vision is adequate for driving a commercial vehicle.” Mr. Reineke reported that he has driven straight trucks for 18 years, accumulating 36,000 miles, and tractor-trailer combinations for 3 years, accumulating 4,500 miles. He holds an operator's license from Nebraska. His driving record for the last 3 years shows no crashes and no convictions for moving violations in a CMV.

Ritchy R. Richards

Mr. Richards, 50, has complete loss of vision in his left eye due to a traumatic incident in 2017. The visual acuity in his right eye is 20/20, and in his left eye, no light perception. Following an examination in 2021, his optometrist stated, “It is in my medical opinion Mr. Richards has sufficient vision in his right eye to perform the driving tasks required to operate a commercial vehicle.” Mr. Richards reported that he has driven straight trucks for 30 years, accumulating 675,000 miles. He holds an operator's license from New Mexico. His driving record for the last 3 years shows no crashes and no convictions for moving violations in a CMV.

Antwine Simmons II

Mr. Simmons, 37, has glaucoma in his left eye due to a traumatic incident in 2012. The visual acuity in his right eye is 20/20, and in his left eye, 20/200. Following an examination in 2021 his ophthalmologist stated, “It is my medical opinion that Mr. Simmons has sufficient vision to operate a commercial vehicle.” Mr. Simmons reported that he has driven straight trucks for 3 years, accumulating 288,312 miles. He holds a Class A CDL from Georgia. His driving record for the last 3 years shows no crashes and no convictions for moving violations in a CMV.

IV. Request for Comments

In accordance with 49 U.S.C. 31136(e) and 31315(b), FMCSA requests public comment from all interested persons on the exemption petitions described in this notice. We will consider all comments and material received before the close of business on the closing date indicated under the DATES section of the notice.

Larry W. Minor,
Associate Administrator for Policy.

[FR Doc. 2022-03349 Filed 2-15-22; 8:45 am]

BILLING CODE 4910-EX-P